DEPARTMENT OF HOMELAND SECURITY

Federal Emergency Management Agency

[Docket ID: FEMA-2018-0016; OMB No. 1660-0139]

Agency Information Collection Activities: Submission for OMB Review; Comment Request; Ready Public Service Advertising (PSA) Campaign Creative Testing Research

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 14, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Aretha Carter, External Affairs Specialist, Federal Emergency Management Agency, (202) 288-6783, Aretha.Carter@fema.dhs.gov.

SUPPLEMENTARY INFORMATION: This proposed information collection previously published in the Federal Register on March 14, 2018 at 83 FR 11222 with a 60-day public comment period. FEMA received 10 comments. Only one comment is related to the information collection, and states, “Whereas the abstract states, `FEMA proposes conducting qualitative research in the form of focus groups in order to test creative concepts developed for FEMA's national Ready public service advertising (PSA) campaign, which aims to educate and empower Americans to prepare for and respond to emergencies. The research will help determine the clarity, relevance, and motivating appeal of the concepts prior to final production of the advertising.' It does not state research will include the effectiveness of the PSA. Clearly it is difficult for metrics to be measured because they are not an exact science, and there is no way to measure success. What can be measured are `results'. Therefore PSAs should be written with the level of creativity where they generate results, then results or the effectiveness of the PSA can be measured. With no means of measurement stated in the abstract, it seems like determining if there is actual `qualitative testing' will not be captured.” The proposed research is a qualitative research approach; the objective of the focus groups is to facilitate discussion around the creative PSA product developed and to identify patterns in response to determine whether the creative concepts are relevant to the intended audience, deliver the message clearly, and have potential to motivate behavior change. This data collection is not intended to measure whether the final produced campaign is impactful in-market; other methods, such as a survey of the campaign audience, are planned to evaluate the impact of the campaign and will be a separate data collection. The purpose of this notice is to notify the public that FEMA will submit the information collection abstracted below to the Office of Management and Budget for review and clearance.

Collection of Information

Title: Ready PSA Campaign Creative Testing Research.

Type of information collection: Revision of a currently approved information collection.

OMB Number: 1660-0139.

Form Titles and Numbers: FEMA Forms: FEMA Form 008-0-21, Recruitment Screener (script); FEMA Form 008-0-22, Focus Group Discussion Guide.

Abstract: FEMA proposes conducting qualitative research in the form of focus groups in order to test creative concepts developed for FEMA's national Ready public service advertising campaign, which aims to educate and empower Americans to prepare for and respond to emergencies. The research will help determine the clarity, relevance, and motivating appeal of the concepts prior to final production of the advertising.

Affected Public: Individuals or households.

Estimated Number of Respondents: 90.

Estimated Number of Responses: 90.

Estimated Total Annual Burden Hours: 58.

Estimated Total Annual Respondent Cost: $2,060.16.

Estimated Respondents' Operation and Maintenance Costs: $0.

Estimated Respondents' Capital and Start-Up Costs: $0.

Estimated Total Annual Cost to the Federal Government: $52,834.81.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William H. Holzerland,
Sr. Director, Information Management Division, Office of the Chief Administrative Officer, Mission Support, Federal Emergency Management Agency, Department of Homeland Security.

[FR Doc. 2018-22301 Filed 10-12-18; 8:45 am]

BILLING CODE 9111-69-P